DEPARTMENT OF COMMERCE

International Trade Administration

[A-475-818]

Certain Pasta From Italy: Notice of Partial Rescission of Antidumping Duty Administrative Review

AGENCY: Import Administration, International Trade Administration, Department of Commerce.

EFFECTIVE DATE: (May 19, 2009.

SUMMARY: In response to requests by interested parties, the Department of Commerce (“the Department”) initiated an administrative review of the antidumping duty order on certain pasta (“pasta”) from Italy for the period of review (“POR”) July 1, 2007, through June 30, 2008.¹ As a result of timely withdrawals of request for review, we are rescinding this review, in part, with respect to Pasta Zara SpA (“Zara”), Pastificio Felicetti S.r.L. (“Felicetti”), F. Divella SpA (“Divella”), Pastificio Di Martino Gaetano & F.lli S.r.L. (“Di Martino”), and Arrighi S.p.A. (“Arrighi”).

¹ See Initiation of Antidumping and Countervailing Duty Administrative Reviews and Requests for Revocation, 73 FR 50308 (August 26, 2008) (“Initiation Notice”).

FOR FURTHER INFORMATION CONTACT: Christopher Hargett, AD/CVD Operations, Office 3, Import Administration, International Trade Administration, U.S. Department of Commerce, 14th Street and Constitution Avenue, NW, Washington, DC 20230; telephone: (202) 482-4161.

SUPPLEMENTARY INFORMATION:

Background

On August 26, 2008, the Department initiated the instant review of certain pasta from Italy with respect to Arrighi, Domenico Paone fu Erasmo S.p.A., Divella, Industria Alimentare Colavita, S.p.A., P.A.M. S.p.A., Pasta Lensi, Pasta Zara, Di Martino, Felicetti, Pastificio Fratelli Pagani S.p.A., Pastificio Labor S.r.L., Pastificio Lucio Garafalo, Pastificio Riscossa F.Illi Mastromauro S.r.L., Rummo S.p.A. Molino e Pastificio, and Rustichella d'Abruzzo S.p.A.² On September 15, 2008, petitioners ³ withdrew their request for review with respect to Arrighi. Arrighi did not self-request review.

² See Initiation Notice.

³ Petitioners are the New World Pasta Company, American Italian Pasta Company, and Dakota Growers Pasta Company.

On October 20, 2008, Zara, Felicetti, Divella, and Di Martino withdrew their requests for review. Petitioners did not request review of Zara, Felicetti, Divella or Di Martino.

Scope of Order

Imports covered by the antidumping duty order on pasta from Italy include shipments of certain non-egg dry pasta in packages of five pounds (2.27 kilograms) or less, whether or not enriched or fortified or containing milk or other optional ingredients such as chopped vegetables, vegetable purees, milk, gluten, diastasis, vitamins, coloring and flavorings, and up to two percent egg white. The pasta covered by this order is typically sold in the retail market, in fiberboard or cardboard cartons, or polyethylene or polypropylene bags of varying dimensions.

Excluded from the scope of this order are refrigerated, frozen, or canned pastas, as well as all forms of egg pasta, with the exception of non-egg dry pasta containing up to two percent egg white. Also excluded from the order on pasta from Italy are imports of organic pasta from Italy that are accompanied by the appropriate certificate issued by the Instituto Mediterraneo Di Certificazione, by Bioagricoop Scrl, by QC&I International Services, by Ecocert Italia or by Consorzio per il Controllo dei Prodotti Biologici, by Associazione Italiana per l'Agricoltura Biologica, or by Instituto per la Certificazione Etica e Ambientale (“ICEA”) are also excluded from this order.

The merchandise subject to the antidumping duty order on pasta from Italy is currently classifiable under item 1902.19.20 of the Harmonized Tariff Schedule of the United States (“HTSUS”). Although the HTSUS subheading is provided for convenience and Customs purposes, the written description of the merchandise subject to the order is dispositive.

Partial Rescission of Review

If a party that requested a review withdraws the request within 90 days of the date of publication of notice of initiation of the requested review, the Secretary will rescind the review pursuant to 19 CFR 351.213(d)(1). In this case, petitioners, withdrew their request with respect to Arrighi within 90 days of initiation of this review. Additionally, Zara, Felicetti, Divella, and Di Martino withdrew their requests for administrative reviews within 90 days from the date of initiation. No other party requested review of these five companies. Therefore, we are rescinding this review of the antidumping duty order on certain pasta from Italy, in part, with respect to Arrighi, Zara, Felicetti, Divella, and Di Martino. This administrative review will continue with respect to Domenico Paone fu Erasmo S.p.A., Industria Alimentare Colavita, S.p.A., P.A.M. S.p.A., Pasta Lensi, Pastificio Fratelli Pagani S.p.A., Pastificio Labor S.r.L., Pastificio Lucio Garafalo, Pastificio Riscossa F.Illi Mastromauro S.r.L., Rummo S.p.A. Molino e Pastificio, and Rustichella d'Abruzzo S.p.A

The Department will issue appropriate assessment instructions directly to U.S. Customs and Border Protection (“CBP”) 15 days after the publication of this notice. The Department will direct CBP to assess antidumping duties at the cash deposit rate in effect on the date of entry for entries during the period July 1, 2007, through June 30, 2008.

This notice is in accordance with section 777(i)(1) of the Tariff Act of 1930, as amended, and 19 CFR 251.213(d)(4).

Dated: May 12, 2009.
John M. Andersen,
Acting Deputy Assistant Secretary for Antidumping and Countervailing Duty Operations.

[FR Doc. E9-11669 Filed 5-18-09; 8:45 am]

BILLING CODE 3510-DS-S